DEPARTMENT OF THE INTERIOR

National Park Service

[NPS-WASO-NAGPRA-22446; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Peabody Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains and associated funerary objects under the control of the Peabody Museum of Natural History, Yale University, New Haven, CT. The human remains and associated funerary objects were removed from Site 16, Chandler Lake, Brooks Range, North Slope Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Peabody Museum of Natural History professional staff in consultation with representatives of the Village of Anaktuvuk Pass.

History and Description of the Remains

In 1956, human remains representing one individual were removed from a Nunamiut burial site identified as Site 16, Chandler Lake, Brooks Range, North Slope Borough, AK and donated to the Peabody Museum of Natural History the same year. The human remains represent one individual identified as a probable male, aged approximately 30-50 years. No known individuals were identified. The 21 associated funerary objects are 3 lots of glass beads, 1 lot of earthen beads, 1 jade pendant, 1 bone implement, 1 iron blade with bone handle, 1 rectangular iron blade, 1 iron implement, 1 metal scissors fragment, 2 iron bracelets, 1 iron wire fragment, 2 iron blades, 2 lots of iron fragments, 1 bone implement fragment, 1 lot of bone fragments, 1 lot of hide fragments, and 1 long bone shaft fragment.

Osteological data as well as the archaeological and geographic contexts identify these human remains as representing an individual of Native American ancestry. A portion of the funerary objects were identified by Campbell as typical of Nunamiut manufacture. The presence of historic trade objects confirms a post-contact date for this burial. The region of Anaktuvuk was, and is, occupied by the Nunamiut people who are today represented by the Village of Anaktuvuk Pass.

Determinations Made by the Peabody Museum of Natural History

Officials of the Peabody Museum of Natural History have determined that:

• Pursuant to 25 U.S.C. 3001(9), the human remains described in this notice represent the physical remains of one individual of Native American ancestry.

• Pursuant to 25 U.S.C. 3001(3)(A), the 21 objects described in this notice are reasonably believed to have been placed with or near individual human remains at the time of death or later as part of the death rite or ceremony.

• Pursuant to 25 U.S.C. 3001(2), there is a relationship of shared group identity that can be reasonably traced between the Native American human remains and associated funerary objects and the Village of Anaktuvuk Pass.

Additional Requestors and Disposition

Lineal descendants or representatives of any Indian tribe or Native Hawaiian organization not identified in this notice that wish to request transfer of control of these human remains and associated funerary objects should submit a written request with information in support of the request to Professor David Skelly, Director, Yale Peabody Museum of Natural History, P.O. Box 208118, New Haven, CT 06520-8118, telephone (203) 432-3752, by January 3, 2017. After that date, if no additional requestors have come forward, transfer of control of the human remains and associated funerary objects to the Village of Anaktuvuk Pass may proceed.

The Peabody Museum of Natural History is responsible for notifying the Village of Anaktuvuk Pass that this notice has been published.

Dated: November 17, 2016.
Melanie O'Brien,
Manager, National NAGPRA Program.

[FR Doc. 2016-28951 Filed 12-1-16; 8:45 am]

BILLING CODE 4312-52-P